DEPARTMENT OF ENERGY

Federal Energy Regulatory Commission

[Docket No. PL07-2-000]

Composition of Proxy Groups for Determining Gas and Oil Pipeline Return on Equity

AGENCY: Federal Energy Regulatory Commission, DOE.

ACTION: Proposed policy statement; correction.

SUMMARY: This document corrects an error in the Proposed Policy Statement that the Federal Energy Regulatory Commission published in the Federal Register on July 31, 2007. The Proposed Policy Statement had an incorrect reply comment date.

EFFECTIVE DATE: August 1, 2007.

FOR FURTHER INFORMATION CONTACT: John M. Robinson (Legal Information), Office of the General Counsel, Federal Energy Regulatory Commission at (202) 502-6806.

SUPPLEMENTARY INFORMATION: In FR Document E7-14708, published July 31, 2007 (72 FR 41744) make the following correction to the Dates: section of the preamble language.

On page 41744, column 1, the reply comment date is corrected to read as follows: “Reply comments are due on September 19, 2007.”

Kimberly D. Bose,
Secretary.

[FR Doc. E7-15390 Filed 8-7-07; 8:45 am]

BILLING CODE 6717-01-P